DEPARTMENT OF HEALTH AND HUMAN SERVICES

Administration for Children and Families

Notice of Award of Non-Competitive Grant

AGENCY: Administration on Children, Youth and Families (ACYF), ACF, DHHS.

ACTION: Notice; Opportunity to Comment.

SUMMARY: Notice is hereby given that ACYF is considering awarding discretionary research grant funds without competition to The Urban Institute at 2100 M St. NW., Washington, DC, for up to $375,000 of Child Care and Development Block Grant funds in FY 2002. And, pending the availability of Federal funds, and the continuing non-Federal support of the project from other sources, ACYF will award up to $375,000 of Child Care and Development Block Grant funds for one additional fiscal year. The two-year project period would begin on September 30, 2002 and end on September 29, 2004. This award will be made to The Urban Institute to provide Federal support for a research project that will examine the interaction of child care providers and child care subsidy policies and practice.

The Urban Institute's research project addresses many questions of relevance to the child care field, to ACF, and to the Child Care Bureau in particular. It will fill a gap in the information currently available about the characteristics of subsidized and unsubsidized providers, and how implementation of subsidy policies affects the experiences of those providers. In addition, the study will explore the rate of participation of faith-based organizations in the child care subsidy system, addressing one of the Administration's priorities. It will also explore the occurrence of activities supporting children's early learning and literacy in diverse child care settings, as well as providers' characteristics that may be related to the likelihood of those activities being present in child care settings. The study answers a call for needed research on providers as expressed by researchers and policymakers in the most recent meeting of the Child Care Research Consortium held in Washington, DC on April 17-19, 2002.

The proposed project has a strong research design and methodology, builds on a solid understanding of the current state of research in the child care field, and is lead by a very experienced team of researchers in child care policy research. The data collected through this study will provide information urgently needed by policymakers in the current environment of the next phase of welfare reform.

The Urban Institute is in a unique position to conduct this much-needed research because:

• They have developed a network of State and local connections and knowledge base while conducting their work on the Assessing the New Federalism Project, as well as a previous project on the experiences of families with the subsidy system, funded by ACF; and

• They have started the planning phase and ground work for the proposed project with funding secured through a foundation.

The Agency is providing members of the public, including qualified organizations which would be interested in competing for the funding if a competition were held, an opportunity to comment on the planned action.

Statutory Authority: This award will be made pursuant to the Child Care and Development Block Grant Act of 1990 as amended (CCDBG Act); section 418 of the Social Security Act; Consolidated Appropriations Act, 2001 (Pub. L. 106-554). The Catalog of Federal Domestic Assistance is 93.647.

DATES: In order to be considered, comments on this planned action must be received on or before September 9, 2002.

ADDRESSES: Interested parties, including qualified organizations which would be interested in competing for the funding if a competition were held, should write to: Karen Tvedt, Child Care Bureau, Administration on Children, Youth and Families (ACYF), Administration for Children and Families (ACF), Department of Health and Human Services, 330 C Street SW., Room 2046, Washington, DC 20447.

FOR FURTHER INFORMATION CONTACT: Karen Tvedt, Child Care Bureau, at (202) 401-5130.

Catalog of Federal Domestic Assistance Program Number 93.647, Child Care Research Discretionary Grants

Dated: July 29, 2002.
Joan E. Ohl,
Commissioner, Administration on Children, Youth and Families.

[FR Doc. 02-21980 Filed 8-27-02; 8:45 am]

BILLING CODE 4184-01-M